ENVIRONMENTAL PROTECTION AGENCY

[ER-FRL-6654-3]

Environmental Impact Statements; Notice of Availability

Responsible Agency: Office of Federal Activities, General Information (202) 5647167 or http://www.epa.gov/compliance/nepa/. Weekly receipt of Environmental Impact Statements filed July 26, 2004, through July 30, 2004, pursuant to 40 CFR 1506.9.

EIS No. 040348, DRAFT EIS, NPS, OR, Crater Lake National Park General Management Plans, Implementation, Klamath, Jackson and Douglas Counties, OR, Comment Period Ends: October 5, 2004, Contact: Terry Urbanowski (303) 969-2277.

EIS No. 040349, FINAL EIS, BLM, CO, Colorado Canyons National Conservation Area and Black Ridge Canyons Wilderness Resource Management Plan, Implementation, Mesa County, CO, Wait Period Ends: September 7, 2004, Contact: Jane Ross (970) 244-3027.

EIS No. 040351, FINAL EIS, COE, CA, Port J. Long Beach Pier J South Terminal Expansion Project, Additional Cargo Requirements Associated with Growing Export and Import Volumes, Port Master Plan (PMP) Amendment, COE Section 404, 401 and 10 Permits, City of Long Beach, CA, Wait Period Ends: September 07, 2004, Contact: Aaron O. Allen (805) 585-2148.

EIS No. 040352, REVISED DRAFT EIS, AFS, CA, Cottonwood Fire Vegetation Management Project, Control Vegetation that is Competing with Conifer Seedlings, Sierraville Ranger District, Tahoe National Forest, Sierra County, CA, Comment Period Ends: September 20, 2004, Contact: Teri Bank (530) 994-3401.

EIS No. 040353, DRAFT EIS, AFS, MO, East Fredericktown Project, To Restore Shortleaf Pine, Improve Forest Health, Treat Affected Stands and Recover Valuable Timber Products, Mark Twain National Forest, Potosi/Fredericktown Ranger District, Bollinger, Madison, St. Francois and Ste. Genevieve Counties, MO, Comment Period Ends: September 20, 2004, Contact: Tom McGure (573) 438-5427.

EIS No. 040354, FINAL EIS, USN, MS, Purchase of Land in Hancock County, Mississippi, for a Naval Special Operations Forces Training Range, To Improve Riverine and Jungle Training Available, John C. Stennis Space Center, Hancock County, MS, Wait Period Ends: September 7, 2004, Contact: Richard Davis (843) 820-5589.

EIS No. 040355, FINAL EIS, BLM, CO, Silverton Outdoor Learning and Recreation Center, Authorization for Long-Term Use of 1,300 acres for Backcountry-type Skiing, Summer Recreation and Educational Activities, Amendment of the San Juan/San Miguel Resource Management Plan, San Juan County, CO, Wait Period Ends: September 7, 2004, Contact: Richard Speegle (970) 375-3310. This document is available on the Internet at: http://www.co.blm.gov/sjra/index.html/.

EIS No. 040356, DRAFT EIS, AFS, SD, Southeast Geographic Area Rangeland Management on National Forest System Lands of the Buffalo Gap National Grassland, To Implement Best Management Grazing Practice, Buffalo Gap National Grassland, Falls River Ranger District, Falls River Ranger District, Fall River County, SD, Comment Period Ends: September 20, 2004, Contact: Michael L. Erk (605) 745-4107.

EIS No. 040357, DRAFT EIS, FRC, MA, Weaver's Cove Liquefied Natural Gas (LNG) Project, Construct and Operate Onshore Liquefied Natural Gas Import and Interstate Natural Gas Transmission Facilities, Falls River, Bristol County, MA, Comment Period Ends: September 20, 2004, Contact: Roberta Coulter (202) 502-8584.

EIS No. 040358, DRAFT EIS, NAS, HI, Outrigger Telescopes Project, Proposed for the W.M. Keck Observatory Site within the Mauna Kea Science Reserve, Funding, Construction, Installation and Operation, Island of Hawai'i, Comment Period Ends: September 30, 2004, Contact: Carl B. Pitcher (202) 358-0291.

EIS No. 040359, FINAL EIS, FHW, WI, Burlington Bypass State Trunk Highway Project, Construction, from WI-36, WI-11 and WI-83, Funding and COE Section 404 Permit, In the City of Burlington, Racine and Walworth Counties, WI, Wait Period Ends: September 7, 2004, Contact: David Platz (608) 829-7509.

EIS No. 040360, FINAL EIS, FHW, AK, Gravina Access Project, Transportation Improvements between Revillagigedo Island and Gravina Island, Funding, Endangered Species Act 7, NPDES and US Army COE Section 404 Permits Issuance, Ketchikan Gateway Borough, AK, Wait Period Ends: September 7, 2004, Contact: Mark Dalton (907) 644-2000. This document is available on the Internet at: http//www.gravina-access.com/.

EIS No. 040361, DRAFT SUPPLEMENT, NOA, NC, FL, SC, GA South Atlantic Shrimp Fishery Management Plan, Amendment 6, Propose to Amend the Bycatch Reduction Device (BRD) Testing Protocol System, South Atlantic Region, Comment Period Ends: September 20, 2004, Contact: Roy E. Crabtree (727) 570-5301.

Dated: August 3, 2004.
B. Katherine Biggs,
Associate Director, Office of Federal Activities.

[FR Doc. 04-18030 Filed 8-5-04; 8:45 am]

BILLING CODE 6560-50-P